DEPARTMENT OF AGRICULTURE

Food Safety and Inspection Service

[Docket No. FSIS-2009-0010]

Codex Alimentarius Commission: Meeting of the Codex Committee on Residues of Veterinary Drugs in Food

AGENCY: Office of the Acting Deputy Under Secretary for Food Safety, USDA.

ACTION: Notice of public meeting and request for comments.

SUMMARY: The Office of the Acting Deputy Under Secretary for Food Safety, U.S. Department of Agriculture (USDA), and the U.S. Food and Drug Administration (FDA), Center for Veterinary Medicine, are sponsoring a public meeting on April 29, 2009. The objective of the public meeting is to provide information and receive public comments on agenda items and draft U.S. positions that will be discussed at the 18th Session of the Codex Committee on Residues of Veterinary Drugs in Foods (CCRVDF) which will be held in Natal, Brazil from May 11-15, 2009. The Acting Deputy Under Secretary for Food Safety and the FDA recognize the importance of providing interested parties the opportunity to obtain background information on the 18th CCRVDF session and to address items on the agenda.

DATES: The public meeting is scheduled for Wednesday, April 29, 2009, from 10 a.m.-1 p.m.

ADDRESSES: The public meeting will be held at the USDA, J.L. Whitten Building, Room 107-A, 1400 Independence Avenue, SW., Washington, DC 20250.

Documents related to the 18th session of the CCRVDF will be accessible via the World Wide Web at the following address: http://www.codexalimentarius.net/current.asp.

The U.S. Delegate to the 18th Session of the CCRVDF, Dr. Steven Vaughn, and the FDA invite U.S. interested parties to submit their comments electronically to the following e-mail address: Brandi.Robinson@fda.hhs.gov.

For Further Information About the 18th Session of the CCRVDF Contact: Steven Vaughn, D.V.M., Director, Office of New Animal Drug Evaluation, Center for Veterinary Medicine, FDA, 7500 Standish Place, Rockville, MD 20855 Telephone: (240) 276-8300, Fax: (240) 276-8242, e-mail: Steven.Vaughn@fda.hhs.gov.

For Further Information About the Public Meeting Contact: Jasmine Matthews, Program Analyst, USDA, Food Safety and Inspection Service, U.S. Codex Office, 1400 Independence Avenue, SW., Room 4861, Washington, DC 20250. Telephone: (202) 690-1124, Fax: (202) 720-3157, e-mail: jasmine.matthews@fsis.usda.gov.

SUPPLEMENTARY INFORMATION:

Background

The Codex Alimentarius (Codex) was established in 1963 by two United Nations organizations, the Food and Agriculture Organization (FAO) and the World Health Organization (WHO.) Through adoption of food standards, codes of practice, and other guidelines developed by its committees, and by promoting their adoption and implementation by governments, Codex seeks to protect the health of consumers and ensure that fair practices are used in trade.

The CCRVDF is responsible for determining priorities for the consideration of residues of veterinary drugs in foods; to recommend maximum levels of such substances; to develop codes of practice as may be required; and to consider methods of sampling and analysis for the determination of veterinary drug residues in foods.

The Committee is hosted by the United States.

Issues To Be Discussed at the Public Meeting

The following items on the agenda for the 18th Session of the CCRVDF will be discussed during the public meeting:

• Matters Referred by the Codex Alimentarius Commission and Other Codex Committees and Task Forces.

• Matters Arising from FAO and WHO and from the 70th Meeting of the Joint FAO and WHO Expert Committee on Food Additives (JECFA).

• Report of the World Organization for Animal Health (OIE) Activities, Including the Harmonization of Technical Requirements for Registration of Veterinary Medicinal Products.

• Draft Maximum Residue Limits (MRLs) for Veterinary Drugs (at Step 7).

• Proposed draft MRLs for Veterinary Drugs (at Step 3).

• Draft Guidelines for the Design and Implementation of National Regulatory Food Safety Assurance Programs Associated with the Use of Veterinary Drugs in Food Producing Animals.

• Discussion Paper on Consideration of Methods of Analysis and Sampling in the CCRVDF (Report of the Electronic Working Group on Methods of Analysis and Sampling).

• Draft Priority List of Veterinary Drugs Requiring Evaluation or Re-Evaluation by JECFA and the Working Document Listing Veterinary Drugs of Potential Interest (Report of the Electronic Working Group on the Priority List of Veterinary Drugs Requiring Evaluation or Re-evaluation).

• Discussion Paper on Current Practices and Needs for Further Work by the Committee (Report of the Electronic Working Group on Risk Management Topics and Options).

Each issue listed will be fully described in documents distributed, or to be distributed, by the Secretariat prior to the meeting. Members of the public may access copies of these documents (see ADDRESSES).

Public Meeting

At the April 29, 2009, public meeting, draft U.S. positions on the agenda items will be described and discussed, and attendees will have the opportunity to pose questions and offer comments. Written comments may be offered at the meeting or sent to the U.S. Delegate for the 18th Session of the CCRVDF, Dr. Steven Vaughn (see ADDRESSES). Written comments should state that they relate to activities of the 18th session of the CCRVDF.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/e-mail_subscription/. Options range from recalls to export information to regulations, directives and notices. Customers can add or delete subscriptions themselves, and have the option to password protect their accounts.

Done at Washington, DC on: April 6, 2009.
Paulo Almeida,
Acting U.S. Manager for Codex Alimentarius.

[FR Doc. E9-8181 Filed 4-9-09; 8:45 am]

BILLING CODE 3410-DM-P